DEPARTMENT OF COMMERCE

International Trade Administration

[A-201-830; A-274-804]

Carbon and Certain Alloy Steel Wire Rod From Mexico and Trinidad and Tobago: Extension of Preliminary Results of 2002/2003 Antidumping Duty Administrative Reviews

AGENCY: Import Administration, International Trade Administration, Department of Commerce.

EFFECTIVE DATE: June 14, 2004.

FOR FURTHER INFORMATION CONTACT: Tipten Troidl at (202) 482-1767, Office of AD/CVD Enforcement VI, Group II, Import Administration, International Trade Administration, U.S. Department of Commerce, 14th Street and Constitution Ave, NW., Washington, DC 20230.

Time Limits

Statutory Time Limits

Section 751(a)(3)(A) of the Tariff Act of 1930, as amended (the Act), requires the Department to issue the preliminary results of a review within 245 days after the last day of the anniversary month of an order/finding for which a review is requested and the final results within 120 days after the date on which the preliminary results are published. However, if it is not practicable to complete the review within that time period, section 751(a)(3)(A) of the Act allows the Department to extend the time limit for the preliminary results to a maximum of 365 days and for the final results to 180 days (or 300 days if the Department does not extend the time limit for the preliminary results) from the date of the publication of the preliminary results.

Background

On November 28, 2003, the Department published a notice of initiation of the administrative reviews of the antidumping duty orders on carbon and certain alloy steel wire rod from Mexico and Trinidad and Tobago, covering the period April 10, 2002 to September 30, 2003 (68 FR 66799). The preliminary results are currently due no later than July 2, 2004.

Extension of Preliminary Results of Reviews

The Department received sales-below-cost allegations concerning all five respondents in these cases. We are in the process of analyzing those allegations. Furthermore, we are in the process of working out sales and cost verification schedules with respondents. We therefore determine that it is not practicable to complete the preliminary results of these reviews within the original time limits, and we are extending the time limits for completion of the preliminary results until no later than October 30, 2004.

This extension is in accordance with section 751(a)(3)(A) of the Act.

Dated: June 7, 2004.
Holly A. Kuga,
Acting Deputy Assistant Secretary, Import Administration.

[FR Doc. 04-13329 Filed 6-10-04; 8:45 am]

BILLING CODE 3510-DS-P